DEPARTMENT OF LABOR

Employment and Training Administration

[TA-W-65,088]

Snoke Special Products Co., Inc. Including On-Site Leased Workers From 1st Choice Personnel and East Texas Staffing Jacksonville, TX; Amended Certification Regarding Eligibility To Apply for Worker Adjustment Assistance and Alternative Trade Adjustment Assistance

In accordance with Section 223 of the Trade Act of 1974 (19 USC 2273), and Section 246 of the Trade Act of 1974 (26 USC 2813), as amended, the Department of Labor issued a Certification of Eligibility to Apply for Worker Adjustment Assistance and Alternative Trade Adjustment Assistance on February 12, 2009, applicable to workers of Snoke Special Products Co., Inc., including on-site leased workers from 1st Choice Personnel, Jacksonville, Texas. The notice was published in the Federal Register on March 3, 2009 (74 FR 9278).

At the request of the State agency, the Department reviewed the certification for workers of the subject firm. The workers are engaged in the production of copper tubing components for air conditioners.

New information shows that some workers separated from employment at the subject firm had their wages reported under a separate unemployment insurance (UI) tax account for East Texas Staffing, the parent company of 1st Choice Personnel.

Accordingly, the Department is amending this certification to properly reflect this matter.

The intent of the Department's certification is to include all workers of Snoke Special Products Co., Inc., Jacksonville, Texas, who were secondarily affected as a supplier of copper tubing components for air conditioners to a trade certified firm.

The amended notice applicable to TA-W-65,088 is hereby issued as follows:

“All workers of Snoke Special Products Co., Inc. including on-site leased workers from 1st Choice Personnel and East Texas Staffing, Jacksonville, Texas, who became totally or partially separated from employment on or after February 2, 2008 through February 12, 2011, are eligible to apply for adjustment assistance under Section 223 of the Trade Act of 1974, and are also eligible to apply for alternative trade adjustment assistance under Section 246 of the Trade Act of 1974.”

Signed at Washington, DC this 13th day of May 2009.
Linda G. Poole,
Certifying Officer, Division of Trade Adjustment Assistance.

[FR Doc. E9-14071 Filed 6-15-09; 8:45 am]

BILLING CODE 4510-FN-P